DEPARTMENT OF ENERGY

Federal Energy Regulatory Commission

[Docket No. CP05-5-000]

Questar Pipeline Company; Notice of Application

October 20, 2004.

Take notice that on October 12, 2004, Questar Pipeline Company (Questar), 180 East 100 South, Salt Lake City, Utah 84111, filed an application with the Commission in Docket No. CP05-5-000 under Section 7 of the Natural Gas Act (NGA), as amended, seeking authority to construct, install, modify, and operate certain natural gas pipeline facilities which would expand Questar's interstate natural gas transmission system in Carbon and Duchesne Counties, Utah, and Rio Blanco County, Colorado, all as more fully stated in the application which is open to public inspection. The application is on file with the Commission and open to public inspection. The filing may also be viewed on the Web at http://www.ferc.gov using the “eLibrary” link. Enter the docket number excluding the last three digits in the docket number field to access the document. For assistance, call (202) 502-8222 or TYY, (202) 502-8659.

Questar proposes to: (1) Construct, install, and operate approximately 18.7 miles of 24-inch diameter pipeline as an extension of its existing Mainline 104 (ML 104) in Carbon County, Utah; (2) install and operate a new 6,200 horsepower (HP) compressor station, to be known as the Thistle Creek Compressor Station in Utah County, Utah; (3) install and operate a new 9,400 HP compressor station, to be known as the Blind Canyon Compressor Station, in Duchesne County, Utah; and (4) modify the existing Oak Spring Compressor Station in Carbon County, Utah, and the Greasewood Compressor Station in Rio Blanco County, Colorado, to increase the maximum allowable operating pressure on a 23.5-mile segment of Mainline 40 downstream of the proposed Blind Canyon Compressor Station.

Questar states that its proposed Southern System Expansion Project (SSXP) would enable it to transport an additional 102,000 dekatherm equivalent of natural gas per day from various receipt points on its interstate transmission system to a single delivery point at the existing ML 104/Kern River Gas Transmission Company interconnection in Goshen, Utah. Questar further states that it estimates the total construction cost of the proposed facilities is $54,600,000 and that the three contracting shippers have agreed to pay the SSXP project-specific reservation charge of $7.82712 per dekatherm per month for 100 percent of the incremental transportation capacity resulting from the proposed expansion.

Any questions regarding the application should be directed to Lenard G. Wright, Director, Federal Regulation, Questar Pipeline Company, 180 East 100 South, P.O. Box 45360, Salt Lake City, Utah 84145-0360 or at (801) 324-2459, (801) 324-5485 (fax), or lenard.wright@questar.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See 18 CFR 385.2001(a) (1) (iii) and the instructions on the Commission's Web site under the “e-Filing” link.

Comment Date: November 10, 2004.

Magalie R. Salas,
Secretary.

[FR Doc. E4-2866 Filed 10-26-04; 8:45 am]

BILLING CODE 6717-01-P